ENVIRONMENTAL PROTECTION AGENCY

[FRL-10001-33-Region 10]

Proposed Reissuance of NPDES General Permit for Concentrated Animal Feeding Operations Located in Idaho (IDG010000)

AGENCY: Environmental Protection Agency (EPA).

ACTION: Notice; request for public comment.

SUMMARY: The Director of the Water Division, EPA Region 10, proposes to reissue the National Pollutant Discharge Elimination System (NPDES) General Permit for Concentrated Animal Feeding Operations (CAFOs) in the State of Idaho (permit). As proposed, all animal feeding operations (AFOs) that meet the regulatory definition of a CAFO and are subject to 40 CFR part 412 are eligible for coverage under the permit, excluding facilities in Indian Country. Eligible CAFOs may apply for authorization under the terms and conditions of the permit by submitting a Notice of Intent (NOI) and nutrient management plan (NMP). Upon receipt, EPA will review the NOI and NMP to ensure that all permit requirements are met. If EPA makes a preliminary determination that the NOI is complete, the NOI, NMP, and draft terms of the NMP to be incorporated into the permit will be made available for a thirty (30) day public review and comment period. If determined appropriate by EPA, CAFOs will be granted coverage under the permit upon written notification by EPA. EPA is accepting public comments on the draft permit.

DATES: Comments must be received by December 9, 2019.

ADDRESSES: You may send comments by any of the following methods:

Comments on the draft General Permit should be sent to the Director of the Water Division; USEPA Region 10; 1200 Sixth Avenue, Suite 155, WD 19-C04; Seattle, WA 98101-3188 and may also be submitted by fax to (206) 553-0165 or electronically to peak.nicholas@epa.gov.

FOR FURTHER INFORMATION CONTACT: Permit documents may be found on the EPA Region 10 website at: https://www.epa.gov/npdes-permits/npdes-general-permit-concentrated-animal-feeding-operations-cafos-idaho Copies of the draft general permit and fact sheet are also available upon request. Requests may be made to Audrey Washington at (206) 553-0523 or to Nick Peak at (208) 378-5765. Requests may also be electronically mailed to: washington.audrey@epa.gov, or peak.nicholas@epa.gov

SUPPLEMENTARY INFORMATION: Please see the draft general permit and Fact Sheet.

II. Other Legal Requirements

This action was submitted to the Office of Management and Budget (OMB) for review under Executive Orders 12866, Regulatory Planning and Review, and 13563, Improving Regulation and Regulatory Review, and was determined to be not significant. Compliance with Endangered Species Act, Essential Fish Habitat, Paperwork Reduction Act, and other requirements are discussed in the Fact Sheet to the proposed permit.

Dated: September 30, 2019.
Daniel D. Opalski,
Director, Water Division, Region 10.

[FR Doc. 2019-23128 Filed 10-22-19; 8:45 am]

BILLING CODE 6560-50-P